DEPARTMENT OF ENERGY

Federal Energy Regulatory Commission

[Docket No. RM01-5-000]

Electronic Tariff Filings; Notice of Updates to the Commission's E-Tariff Public Viewer

Take notice that effective August 13, 2021, the Commission's electronic tariff (eTariff) public viewer (https://etariff.ferc.gov/) will be improved in several respects.

First, when the user selects a tariff record title from the list at the left of the screen, the browser will no longer reset to the top of the page, requiring the user to scroll down to the selected tariff record. Instead, the tariff record and the tariff record version table for that record will appear in two separate panels with the versions of the tariff record next to the selected tariff record. This will enable users to move more quickly from tariff record to tariff record in the same section of the tariff. A new Locate Selected button also will enable users to move back to the selected tariff record.

Second, the tariff record version numbers have been added to the table, so users can locate the specific version of the tariff record.

Third, the tariff record version table will default to listing the tariff record versions by effective date in ascending order. Also, the Column Headings for Effective Date, Superseded, Status, Change Type, Docket #, and Version can be resorted (toggling between ascending and descending) by clicking on the column heading on the tariff record version table. This will enable users to locate more easily the tariff record version for which they are looking.

For more information, contact the eTariff Advisory Staff at 202-502-6501 or etariffresponse@ferc.gov.

Dated: August 10, 2021.
Kimberly D. Bose,
Secretary.

[FR Doc. 2021-17514 Filed 8-13-21; 8:45 am]

BILLING CODE 6717-01-P